FEDERAL COMMUNICATIONS COMMISSION

Public Information Collections Approved by Office of Management and Budget

October 31, 2000.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0806.

Expiration Date: 04/30/2001.

Title: Universal Service—Schools and Libraries Universal Service Program.

Form No.: FCC Forms 470 and 471.

Respondents: Business or other for-profit; Not-for-profit institutions; State, Local or Tribal Government.

Estimated Annual Burden: 60,000 respondents; 7.3 hours per response (avg.). 440,000 total annual burden hours.

Estimated Annual Reporting and Recordkeeping Cost Burden: $0.

Frequency of Response: On occasion; Third Party Disclosure; Recordkeeping.

Description: The Commission adopted rules providing support for all telecommunications services, internet access, and internal connections for all eligible schools and libraries. To participate in the program, schools and libraries must submit a description of the services desired to the Administrator via FCC Form 470. FCC Form 471 is submitted by schools and libraries that have ordered telecommunications services, internet access, and internal connections. The information is used to determine eligibility. OMB recently approved revisions made to the FCC Form 471. The forms are available via the universal service website (www.universalservice.org). Obligation to respond: Required to obtain or retain benefits.

OMB Control No.: 3060-0819.

Expiration Date: 04/30/2001.

Title: Lifeline Assistance (Lifeline) Connection Assistance (Link Up) Reporting Worksheet and Instructions (47 CFR Sections 54.400-54.417).

Form No.: FCC Form 497.

Respondents: Business or other for-profit.

Estimated Annual Burden: 18,000 respondents; 3 hours per response (avg.). 54,000 total annual burden hours.

Estimated Annual Reporting and Recordkeeping Cost Burden: $0.

Frequency of Response: On occasion; Quarterly; Monthly.

Description: Eligible telecommunications carriers are permitted to receive universal service support reimbursement for offering certain services to qualifying low-income customers. The telecommunications carriers must file FCC Form 497 to solicit reimbursement. Collection of the data is necessary for the administrator to accurately provide settlements for the low-income programs according to Commission rules. FCC Form 497 has been revised to make it consistent with the requirements contained in CC Docket No. 96-45, FCC 00-208. In CC Docket No. 96-45, the Commission adopted measures to promote telecommunications subscribership within American Indian and Alaska Native tribal communities and mandated enhancements to the existing Lifeline and Link Up programs. The form is available via the universal service website (www.universalservice.org). Obligation to respond: Required to obtain or retain benefits.

OMB Control No.: 3060-0719.

Expiration Date: 10/31/2003.

Title: Quarterly Report of IntraLATA Carriers Listing Payphone Automatic Number Identifications (ANIs).

Form No.: N/A.

Respondents: Business or other for-profit.

Estimated Annual Burden: 1600 respondents; 4 hours per response (avg.); 5600 total annual burden hours.

Estimated Annual Reporting and Recordkeeping Cost Burden: $0.

Frequency of Response: Quarterly; Third Party Disclosure; Recordkeeping.

Description: Pursuant to the mandate in Section 276(b)(1)(A) to establish a per call compensation plan to ensure that all payphone service providers are fairly compensated for each and every completed intrastate and interstate call, IntraLATA carriers are required to provide to interexchange carriers a quarterly report. IntraLATA carriers must submit a quarterly list of payphone ANIs to the interexchange carriers. This will facilitate resolution of disputed ANIs in the per-call compensation context. The report allows IXCs to determine which dial-around calls are made from payphones. The data, which must be maintained for at least 18 months after the close of a compensation period, will facilitate verification of disputed ANIs. Obligation to respond: Mandatory.

OMB Control No.: 3060-0743.

Expiration Date: 10/31/2003

Title: Implementation of the Pay Telephone Reclassification and Compensation Provisions of the Telecommunications Act of 1996, CC Docket No. 96-128.

Form No.: N/A.

Respondents: Business or other for-profit.

Estimated Annual Burden: 4542 respondents; hours per response (avg.); 131,077 total annual burden hours.

Estimated Annual Reporting and Recordkeeping Cost Burden: $0.

Frequency of Response: On occasion.

Description: In CC Docket No. 96-128, the Commission promulgated rules and requirements implementing Section 276 of the Telecommunications Act of 1996. Among other things, the rules (1) establish fair compensation for every completed intrastate and interstate payphone call; (2) discontinue intrastate and interstate carrier access charge payphone service elements and payments, and intrastate and interstate payphone subsidies from basic exchange services; and (3) adopt guidelines for use by the states in establishing public interest payphones to be located where there would otherwise not be a payphone.

(a) State Review and Removal of State Regulations Concerning Adequacy of Local Coin Rate Disclosure. States must review their regulations and remove them where necessary to ensure consistency with the Commission's regulations. (No. of respondents: 50; hours per response: 50 hours; total annual hour burden: 2500 hours).

(b) State Review and Removal of Market Entry or Exit Requirements. States must review their regulations and remove them where necessary to ensure consistency with the Commission's regulations. (No. of respondents: 50; hours per response: 50 hours; total annual burden: 2500 hours).

(c) State Showing of Proof of Market Failure for Exception to Market-Rate Local Coin Call Requirement. States must comply with the Commission's market-rate local coin call requirement, except where they show proof of market failure. Such a showing could consist of, for example, a detailed summary of the record of a state proceeding that examines the costs of providing payphone service within that state and the reasons why the public interest is served by having the state set rates within that market. (No. of respondents: 50; hours per response: 50 hours; total annual burden: 2500 hours).

(d) State Review and Removal of Adequacy of Provision of Public Interest Payphones. Each state must review whether it has adequately provided for public interest payphones in a manner consistent with the Order. (No. of respondents: 50; hours per response: 50 hours; total annual burden: 2500 hours).

(e) Payphone Providers' Transmission of Specific Payphone Coding Digits. All payphones are required to transmit specific payphone coding digits as a part of their automatic number identification (“ANI”), which will assist in identifying them to compensation payors. Currently, the local exchange carriers (“LECs”) are required to tariff federally originating line screening (“OLS”) services that provide a discrete code to identify payphones that are maintained by non-LEC providers. This requirement provides that LECs must furnish similar coding digits for their own payphones. (No. of respondents: 197; hours per response: 20 hours; total annual burden: 3940 hours).

(f) Interexchange Carriers' Provision of Tracking of All Compensable Calls. Carriers must provide tracking of all compensable calls received from payphones to ensure that each and every completed call from a payphone is receiving compensation. (No. of respondents: 275; hours per response: 100 hours; total annual burden: 27,500 hours).

(g) LEC Verification of Disputed ANIs and Maintaining and Making Available the Verification Data. LECs must provide verification of disputed ANIs on request and in a timely manner. In order to facilitate the process and provide efficient verification of disputed ANIs, the LECs must maintain and make available the verification data for at least 18 months after the close of the compensation period. (No. of respondents: 400; hours per response: 30 minutes quarterly; total annual burden: 800 hours).

(h) LEC Timely Notification of Payphone Disconnection. LECs are required to notify the carrier-payors of each payphone's disconnection on a basis that is as timely as possible. (No. of respondents: 400; hours per response: 30 minutes; total annual burden: 200 hours).

(i) LEC Indication on the Payphone's Monthly Bill That the Amount Due is for Payphone Services. LECs are required to affirmatively state on their bills to PSPs that the bills are for payphone service, to facilitate payment of compensation and to avoid disputes. (No. of respondents: 400; hours per response: 10 hours; total annual burden: 4000 hours).

(j) LEC Tariff Filings. Pursuant to the mandate in Section 276(b)(1)(B) to remove payphone costs from the CCL charge, and all intrastate and interstate payphone subsidies from basic exchange and exchange access revenues, 47 U.S.C. § 276(b)(1)(B), incumbent LECs must file revised tariffs for central office coin transmission services and CCL charges, to ensure that LEC services are priced reasonably and do not include subsidies. This also requires LECs to submit proposed interconnection requirements to the Commission. (No. of respondents: 400; hours per response: 100 hours; total annual burden: 40,000 hours).

(k) Reclassification of LEC-Owned Payphones. Pursuant to the mandate in Section 276(b)(1)(B) to remove payphone costs from the CCL charge and all intrastate and interstate payphone subsidies from basic exchange and exchange access revenues, 47 U.S.C. § 276(b)(1)(B), incumbent LECs must either reclassify their payphone assets as nonregulated or transfer them to a separate affiliated engaged in nonregulated activities. Such reclassification or transfer includes establishing Part 64 cost pools, which are groupings of costs that maximize the extent to which cost causative allocation factors can be used to divide costs between regulated and nonregulated activities, as well as revising their cost allocation manuals. (No. of respondents: 400; hours per response: 100 hours; total annual burden 40,000 hours).

(l) Reclassification of AT&T Payphones. AT&T must either reclassify its payphone assets as nonregulated or transfer them to a separate affiliated engaged in nonregulated activities. Such reclassification or transfer includes establishing Part 64 cost pools, which are groupings of costs that maximize the extent to which cost causative allocation factors can be used to divide costs between regulated and nonregulated activities, as well as revising their cost allocation manuals. (No. of respondents: 1; hours per response: 100 hours; total annual burden: 100 hours).

(m) Payphone Provider's Verification of its Status to IXC Paying Compensation. Pursuant to the mandate in Section 276(b)(1)(A) that all payphone providers be fairly compensated for calls using their payphones, the Order established a definition of a payphone eligible for compensation as a payphone that appears on LEC-provided customer-owned, coin-operated telephone (“COCOT”) lists. If a payphone provider does not appear on this list, it must provide alternative verification information to the IXC paying compensation. Otherwise, the IXC would be unable to verify that the particular payphone provider was in fact eligible for compensation. (No. of respondents: 197; hours per response: 1 hour; total annual burden: 197 hours).

(n) Payphone Providers' Posting of Local Coin Call Rate on Each Payphone Placard. Pursuant to the mandate in Section 276(b)(1)(A) that the Commission establishes a fair compensation plan, the Commission decided to let the market set the price for individual calls originated by payphones. In order to ensure that callers have information about the price of the calls they make, payphone providers are required to post the local coin call rate within the informational placard on each payphone. (No. of respondents: 197; hours per response: 20 hours; total annual burden: 3940 hours).

(o) LEC Provision of Emergency Numbers to Carrier-Payors. Pursuant to the mandate in Section 276(b)(1)(A) that emergency calls shall not be subject to per call compensation, 47 U.S.C. Section 276 (b)(1)(A), the rules in the Order on Reconsideration provide that LECs shall supply to carrier-payors, on demand, a list of emergency numbers so that carrier-payors will know that they do not have to compensate payphone providers for those calls. (No. of respondents: 400; hours per response: 1 hour; total annual burden: 400 hours).

All of the requirements would be used to ensure that interexchange carriers, payphone service providers (“PSPs”), LECs, and the states, comply with their obligations under the 1996 Act. Obligation to respond: Mandatory.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 00-28686 Filed 11-8-00; 8:45 am]

BILLING CODE 6712-01-U